DEPARTMENT OF ENERGY

Federal Energy Regulatory Commission

Notice of Application for Amendment of License and Soliciting Comments, Motions To Intervene, and Protests

April 17, 2006.

Take notice that the following application has been filed with the Commission and is available for public inspection:

a. Application Type: Amendment of License to Increase its Authorized Generating Capacity.

b. Project No.: 5984-055.

c. Date Filed: March 15, 2006.

d. Applicant: Erie Boulevard Hydropower, L.P.

e. Name of Project: Oswego Falls Project.

f. Location: The project is located on the Oswego River in Oswego and Onondaga Counties in New York.

g. Filed Pursuant to: Federal Power Act, 16 U.S.C. 791a-825r.

h. Applicant Contact: David W. Culligan, P.E., Licensing Coordinator, Brookfield Power, New York Operations, 225 Greenfield Parkway, Suite 201, Liverpool, NY 13088, Tel: (315) 413-2792, Fax: (315) 461-8577.

i. FERC Contact: Any questions on this notice should be addressed to Mr. Jake Tung at (202) 502-8757, or e-mail address: hong.tung@ferc.gov.

j. Deadline for filing comments and or motions: May 1, 2006.

k. Description of Request: The licensee proposes to perform a maintenance upgrade to its existing 400 kW generating unit #3 at the West Side Development. The upgrade of unit #3 consists of: (1) Replacing the unit's horizontal quadruplex Francis turbine unit with two new, vertical propeller units, each rated 800 horsepower (600 kW) at 16.7 feet net head; (2) replacing the unit's horizontal generator with two new vertical generators, each rated 550 kW; (3) retiring the existing 400 kW generating unit #3 in place in the powerhouse; and (4) modifying the existing intake flume floor to accommodate the installation of the new units. When the unit upgrade is complete, the licensee states that the project's installed capacity would increase from 6,760 kW to 7,360 kW, or 8.8%, and turbine hydraulic discharge from 6,490 cfs to 6,922 cfs, or 6.6%.

l. Locations of Applications: A copy of the application is available for inspection and reproduction at the Commission in the Public Reference Room, located at 888 First Street, NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-6047 Filed 4-21-06; 8:45 am]

BILLING CODE 6717-01-P